DEPARTMENT OF HEALTH AND HUMAN SERVICES

Office of the Secretary

Findings of Research Misconduct

AGENCY: Office of the Secretary, HHS.

ACTION: Notice.

SUMMARY: Notice is hereby given that the Office of Research Integrity (ORI) has taken final action in the following case: Timothy Sheehy, B.A., BSc., SAIC-Frederick, Inc.

FOR FURTHER INFORMATION CONTACT: David E. Wright, Ph.D., Director, Office of Research Integrity, 1101 Wootton Parkway, Suite 750, Rockville, MD 20852, (240) 453-8800.

SUPPLEMENTARY INFORMATION:

Timothy Sheehy, B.A., BSc., SAIC-Frederick, Inc.: Based on the report of an investigation conducted by SAIC-Frederick, Inc., and additional analysis conducted by ORI in its oversight review, ORI found that Mr. Timothy Sheehy, former Manager, DNA Extraction and Staging Laboratory (DESL), SAIC-Frederick, Inc., the Operations and Technical Services (OTC) Contractor for the Frederick National Laboratory for Cancer Research (FNLCR), Frederick, MD, engaged in research misconduct in research supported by National Cancer Institute (NCI), National Institutes of Health (NIH), contract HHSN2612008000001E awarded by FNLCR/NCI, NIH, to SAIC-Frederick, Inc., and the intramural program at the Occupational and Environmental Epidemiology Branch, Division of Cancer Epidemiology and Genetics, NCI.

ORI found that the Respondent engaged in research misconduct by fabricating and/or falsifying U.S. Public Health Service (PHS)-supported data in Table 1 included in Cancer Epidemiol Biomarkers Prev 19(4):973-977, 2010 (hereafter referred to as the “CEBP paper”).

Specifically, ORI found that Respondent fabricated the quantitative and qualitative data for RNA and DNA purportedly extracted from 900 formalin-fixed, paraffin-embedded (FFPE) colorectal tissue samples presented in Table 1 of the CEBP paper and falsely reported successful methodology to simultaneously recover nucleic acids from FFPE tissue specimens, when neither the extractions nor analyses of the FFPE samples were done. Thus, the main conclusions of the CEBP paper are based on fabricated data and are false.

Mr. Sheehy has entered into a Voluntary Settlement Agreement and has voluntarily agreed for a period of three (3) years, beginning on November 8, 2013:

(1) To have his research supervised; Respondent agreed that prior to the submission of an application for U.S. Public Health Service (PHS) support for a research project on which the Respondent's participation is proposed and prior to Respondent's participation in any capacity on PHS-supported research, Respondent shall ensure that a plan for supervision of his duties is submitted to ORI for approval; the supervision plan must be designed to ensure the scientific integrity of

Respondent's research contribution; Respondent agreed that he shall not participate in any PHS-supported research until such a supervision plan is submitted to and approved by ORI; Respondent agreed to maintain responsibility for compliance with the agreed-upon supervision plan;

(2) that any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) to exclude himself voluntarily from serving in any advisory capacity to PHS including, but not limited to, service on any PHS advisory committee, board, and/or peer review committee, or as a consultant; and

(4) that a letter will be submitted to the editors of CEBP requesting that the journal retract the publication.

David E. Wright,
Director, Office of Research Integrity.

[FR Doc. 2013-28887 Filed 12-3-13; 8:45 am]

BILLING CODE 4150-31-P